FEDERAL DEPOSIT INSURANCE CORPORATION

12 CFR Part 303

RIN 3064-AF54

Branch Application Procedures; Correction

AGENCY: Federal Deposit Insurance Corporation (FDIC).

ACTION: Correcting amendment.

SUMMARY: This document contains a correction to the final regulation which was published in the Federal Register of November 13, 2020. The regulation to be corrected related to Branch Application Procedures.

DATES: Effective on February 16, 2021.

FOR FURTHER INFORMATION CONTACT: Navid Choudhury, Counsel, Policy Unit, Legal Division, (202) 898-6526, nchoudhury@fdic.gov; Patricia A. Colohan, Associate Director, Risk Management Examination Branch; (202) 898-7283, pcolohan@fdic.gov.

SUPPLEMENTARY INFORMATION:

Background

The final regulation that is the subject of this correction amends the FDIC's application requirements for the establishment and relocation of branches and offices so that such applications no longer require statements regarding the compliance of such proposals with the National Historic Preservation Act of 1966 and the National Environmental Policy Act of 1969.

Need for Correction

As published, FR Doc. 2020-23529 (85 FR 72551, November 13, 2020) contained an error in the instructions to amend 12 CFR 303.184(a)(2).

List of Subjects in 12 CFR Part 303

Administrative practice and procedure, Bank deposit insurance, Banks, banking, Reporting and recordkeeping requirements, Savings associations.

For the reasons stated in the preamble, the FDIC makes the following correcting amendment to 12 CFR part 303:

PART 303—FILING PROCEDURES

1. The authority citation for part 303 continues to read as follows:

Authority: 12 U.S.C. 378, 478, 1463, 1467a, 1813, 1815, 1817, 1818, 1819 (Seventh and Tenth), 1820, 1823, 1828, 1831i, 1831e, 1831o, 1831p-1, 1831w, 1831z, 1835a, 1843(l), 3104, 3105, 3108, 3207, 5412; 15 U.S.C. 1601-1607.

§ 303.184 [Amended]

2. Amend § 303.184 by:

a. Removing paragraphs (a)(2)(iii) and (iv); and

b. Redesignating paragraphs (a)(2)(v) and (vi) as paragraphs (a)(2)(iii) and (iv), respectively.

Federal Deposit Insurance Corporation.
Dated at Washington, DC, on January 6, 2021.
James P. Sheesley,
Assistant Executive Secretary.

[FR Doc. 2021-00371 Filed 2-12-21; 8:45 am]

BILLING CODE 6714-01-P